DEPARTMENT OF COMMERCE

National Oceanic and Atmospheric Administration

[I.D. 021401A]

Endangered Species; Permits

AGENCY: National Marine Fisheries Service (NMFS), National Oceanic and Atmospheric Administration (NOAA), Commerce.

ACTION: Expiration of scientific research permits 948 and 956.

SUMMARY: Notice is hereby given of the following actions regarding permits for takes of endangered and threatened species for the purposes of scientific research and/or enhancement: The purpose of this notice is to announce that scientific research permits issued to the Northern Wasco County People’s Utility District at The Dalles, OR (NWCPUD) and the U.S. Geological Survey at Cook, WA (USGS) have expired and that pending modifications to those permits will not be issued.

ADDRESSES: Comments may be sent via fax to the number indicated for the application or modification request. Comments will not be accepted if submitted via e-mail or the Internet. The applications and related documents are available for review in the indicated office, by appointment:

For permits 948 and 956: Protected Resources Division, F/NWR3, 525 NE Oregon Street, Suite 500, Portland, OR 97232-4169 (ph: 503-230-5400, fax: 503-230-5435).

Documents may also be reviewed by appointment in the Office of Protected Resources, F/PR3, NMFS, 1315 East-West Highway, Silver Spring, MD 20910-3226 (phone:301-713-1401).

FOR FURTHER INFORMATION CONTACT: Robert Koch, Portland, OR (ph: 503-230-5424, fax: 503-230-5435, e-mail: Robert.Koch@noaa.gov).

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species and evolutionary significant units (ESUs) are covered in this notice:

Sockeye salmon (Oncorhynchus nerka): endangered Snake River (SnR).

Chinook salmon (O. tshawytscha): endangered, naturally produced and artificially propagated, upper Columbia River (UCR) spring; threatened, naturally produced and artificially propagated, SnR spring/summer; threatened SnR fall.

Steelhead (O. mykiss): endangered, naturally produced and artificially propagated, UCR; threatened SnR.

Expired Permits

Notice was published on March 6, 1998 (63 FR 11220) that NWCPUD applied for modification 2 to scientific research permit 948 for, in part, an annual take of juvenile SnR steelhead. Notice was published on February 11, 1999 (64 FR 6880) that NWCPUD applied for modification 3 to scientific research permit 948 for an annual take of juvenile, naturally produced and artificially propagated, UCR spring chinook salmon. Permit 948 authorized NWCPUD annual takes of juvenile SnR sockeye salmon; juvenile, naturally produced and artificially propagated, SnR spring/summer chinook salmon; juvenile SnR fall chinook salmon; and juvenile, naturally produced and artificially propagated, UCR steelhead associated with research designed to assess juvenile anadromous fish condition after passage through the screened turbine intake channel at The Dalles Dam, located on the lower Columbia River in the Pacific Northwest. These requested permit actions will not be issued because NWCPUD’s permit expired (on September 30, 1999) before NMFS could issue them. NWCPUD has submitted an application for a permit (1229) to replace permit 948 (see 65 FR 2381, January 14, 2000).

Notice was published on March 6, 1998 (63 FR 11222) that USGS applied for modification 3 to scientific research permit 956 for an annual take of juvenile SnR steelhead. Permit 956 authorized USGS annual takes of juvenile, naturally-produced and artificially-propagated, SnR spring/summer chinook salmon and juvenile SnR fall chinook salmon associated with a study designed to obtain data on the distribution, abundance, movement, and habitat preferences of the anadromous fish that migrate through Lower Granite Reservoir; to evaluate the operation of a surface bypass collector in the forebay of Lower Granite Dam; and to verify species of hydroacoustic surveys. The requested permit modification will not be issued because USGS’s permit expired (on September 30, 1999) before NMFS could issue it. USGS has submitted an application for a permit (1240) to replace permit 956 (see 65 FR 11288, March 2, 2000).

Dated: February 15, 2001.
Phil Williams,
Acting Chief, Endangered Species Division, Office of Protected Resources, National Marine Fisheries Service.

[FR Doc. 01-4690 Filed 2-26-01; 8:45 am]

BILLING CODE 3510-22-S